DEPARTMENT OF HEALTH AND HUMAN SERVICES

Food and Drug Administration

[Docket No. FDA-2021-N-0028]

Timothy Baxter; Final Order Announcing Termination Date of Debarment

AGENCY: Food and Drug Administration, HHS.

ACTION: Notice.

SUMMARY: The Food and Drug Administration (FDA or Agency) is issuing an order under the Federal Food, Drug, and Cosmetic Act (FD&C Act) announcing that the debarment of Timothy Baxter will terminate on October 26, 2025.

DATES: This order is applicable February 29, 2024.

ADDRESSES: Submit comments electronically at https://www.regulations.gov. Written comments may be submitted to the Dockets Management Staff, Food and Drug Administration, 5630 Fishers Lane, Rm. 1061, Rockville, MD 20852, 240-402-7500.

FOR FURTHER INFORMATION CONTACT: Jaime Espinosa, Division of Compliance and Enforcement, Office of Policy, Compliance, and Enforcement, Office of Regulatory Affairs, Food and Drug Administration, at 240-402-8743 or debarments@fda.hhs.gov.

SUPPLEMENTARY INFORMATION: In a Federal Register notice dated February 27, 2023 (88 FR 12369), FDA issued an order debarring Dr. Timothy Baxter pursuant to section 306(b)(2)(B)(i)(I) of the FD&C Act (21 U.S.C. 335a(b)(2)(B)(i)(I)) for a period of 5 years from providing services in any capacity to a person with an approved or pending drug product application under section 505, 512, or 802 of the FD&C Act (21 U.S.C. 355, 360b, or 382), or under section 351 of the Public Health Service Act (42 U.S.C. 262). Through mutual agreement of the parties, the Assistant Commissioner, Office of Human and Animal Food Operations, under section 306(d) of the FD&C Act and under authority delegated to the Assistant Commissioner, issues this order announcing that Dr. Baxter's period of debarment will now terminate on October 26, 2025.

Dated: February 23, 2024.
Lauren K. Roth,
Associate Commissioner for Policy.

[FR Doc. 2024-04166 Filed 2-28-24; 8:45 am]

BILLING CODE 4164-01-P